DEPARTMENT OF COMMERCE

Foreign-Trade Zones Board

[S-185-2018]

Approval of Subzone Status; Future Electronics Distribution Center, L.P.; Southaven, Mississippi

On October 30, 2018, the Executive Secretary of the Foreign-Trade Zones (FTZ) Board docketed an application submitted by the Tunica County, grantee of FTZ 287, requesting subzone status subject to the existing activation limit of FTZ 287, on behalf of Future Electronics Distribution Center, L.P., in Southaven, Mississippi.

The application was processed in accordance with the FTZ Act and Regulations, including notice in the Federal Register inviting public comment (83 FR 55691, November 7, 2018). The FTZ staff examiner reviewed the application and determined that it meets the criteria for approval. Pursuant to the authority delegated to the FTZ Board Executive Secretary (15 CFR Sec. 400.36(f)), the application to establish Subzone 287B was approved on January 28, 2019, subject to the FTZ Act and the Board's regulations, including Section 400.13, and further subject to FTZ 287's 2,000-acre activation limit.

Dated: January 31, 2019.
Andrew McGilvray,
Executive Secretary.

[FR Doc. 2019-01281 Filed 2-5-19; 8:45 am]

BILLING CODE 3510-DS-P